DEPARTMENT OF DEFENSE

Department of the Army

[Docket ID: USA-2018-HQ-0005]

Proposed Collection; Comment Request

AGENCY: U.S. Army Public Health Center (APHC), DoD.

ACTION: Information collection notice.

SUMMARY: In compliance with the Paperwork Reduction Act of 1995, the U.S. Army Public Health Center (APHC) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 14, 2018.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Army Public Health Center (APHC), ATTN: Dr. Coleen Baird, 5158 Blackhawk Road, Aberdeen Proving Ground, MD 21010-5403, or call APHC Environmental Medicine Division at (410) 436-2714.

SUPPLEMENTARY INFORMATION:

Title; Associated Form; and OMB Number: Evaluation of Health Status of an Infantry Battalion Following Deployment in Support of Operation Iraqi Freedom in 2004-2005; OMB Control Number 0702-XXXX.

Needs and Uses: The information collection requirement is necessary to assess and evaluate the self-reported post-deployment health status of selected soldiers who operated in the vicinity of Mosul, Iraq in 2004 (e.g., 1-24 Infantry Battalion). The data collected from the survey will be used to compare the health of current and former U.S. Army personnel after their initial deployment in support of Operation Iraqi Freedom (OIF) to that of a subset of Millennium Cohort Study participants. This evaluation is being conducted at the request of the Army Chief of Staff.

Affected public: Individuals or Households.

Annual burden hours: 3,500.

Number of respondents: 3,500.

Responses per respondent: 1.

Annual responses: 3,500.

Average burden per response: 60 minutes.

Frequency: One time.

Respondents are former soldiers who deployed in support of OIF. The post-deployment health survey will record self-reported health topics, including medical conditions, health behaviors, and exposures that may have affected the health of soldiers and veterans. The data from the completed survey will be used to compare the health status of members of the 1-24 Infantry Battalion (1-24 IN) who deployed to Mosul, Iraq in 2004-2005 and a similar exposure group consisting of other personnel in the 1st Stryker Brigade Combat Team (SBCT) to a comparable set of soldiers and veterans participating in a separate and not related Millennium Cohort Study. A deployment and environmental health surveillance investigation conducted by the APHC in 2014 was unable to discern etiologic elements connecting the multitude of health conditions and symptoms experienced by a small subset of the 1-24 IN. Deployment-associated environmental exposures which may have increased the risk of developing these conditions were not identified; however, a comprehensive comparative evaluation that includes self-reported data and all former members of the 1-24 IN who served in Mosul has not been conducted.

Dated: March 8, 2018.
Aaron Siegel,
Alternate OSD Federal Register Liaison Officer, Department of Defense.

[FR Doc. 2018-05040 Filed 3-12-18; 8:45 am]

BILLING CODE 3710-08-P